DEPARTMENT OF LABOR

Bureau of Labor Statistics

Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

The Bureau of Labor Statistics is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

DATES: Written comments must be submitted to the office listed in the Addresses section of this notice on or before May 22, 2000.

ADDRESSES: Send comments to Sytrina D. Toon, BLS Clearance Officer, Division of Management Systems, Bureau of Labor Statistics, Room 3255, 2 Massachusetts Avenue, NE, Washington, DC 20212, telephone number 202-691-7628 (this is not a toll free number).

FOR FURTHER INFORMATION CONTACT: Sytrina D. Toon, BLS Clearance Officer, telephone number 202-691-7628. (See ADDRESSES section.)

SUPPLEMENTARY INFORMATION:

I. Proposed Collection

The Bureau of Labor Statistics (BLS) is soliciting comments concerning the proposed revision of the Consumer Price Index (CPI) Housing Survey Computer Assisted Data Collection (CADC). A copy of the proposed information collection request (ICR) can be obtained by contacting the individual listed in the Addresses section of this notice.

II. Background

The Consumer Price Index (CPI) is the only index compiled by the U.S. Government that is designed to measure changes in the purchasing power of the urban consumer's dollar. The CPI is most widely used as a measure of inflation, and serves as an indicator of the effectiveness of Government economic policy. It also is used as a deflator of other economic series, that is, to adjust other series for price changes and to translate these series into inflation-free dollars.

III. Current Actions

This request is for a three-year clearance of the collection of housing information based on 1990 Census data and new construction data on residential structures built in 1990 and later. In order to facilitate continuity and sufficiency of the housing indexes compiled through the collection of the CPI (CADC) Housing Survey, the survey will be collected through Calendar Year 2002.

Type of Review: REVISION.

Agency: The Bureau of Labor Statistics.

Title: Consumer Price Index Housing (CPI) Survey (CADC).

OMB Number: 1220--0163.

Affected Public: Individuals or Households; Business or other for-profit institutions.

Total Respondents: 128,081.

Frequency: Semi-annually.

Total Responses: 163,394.

Average Time Per Response: 5 minutes.

Estimated Total Burden Hours: 19,299 hours.

Total Burden Cost (capital/startup): $0.

Total Burden Cost (operating/maintenance): $0.

Comments submitted in response to this notice will be summarized and/or included in the request for Office of Management and Budget approval of the information collection request; they also will become a matter of public record.

Signed at Washington, DC, this 13th day of March 2000.
W. Stuart Rust, Jr.
Chief, Division of Management Systems, Bureau of Labor Statistics.

[FR Doc. 00-6965 Filed 3-20-00; 8:45 am]

BILLING CODE 4510-24-M